FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 31, 2003.

A. Federal Reserve Bank of Atlanta (Sue Costello, Vice President) 1000 Peachtree Street, N.E., Atlanta, Georgia 30303:

1. The Edwards Family Holdings, LLLP, The Edwards Family Management Trust, J. Joseph Edwards and Patricia C. Edwards, all of Barnesville, Georgia; James J. Edwards, Jr., Thomaston, Georgia; and Christopher C. Edwards, Griffin, Georgia; to retain voting shares of United Bank Corporation, Barnesville, Georgia, and thereby indirectly retain voting shares of United Bank, Zebulon, Georgia.

B. Federal Reserve Bank of San Francisco (Tracy Basinger, Director, Regional and Community Bank Group) 101 Market Street, San Francisco, California 94105-1579:

1. Arnold Clair Benton and Neva Clair Benton, Reno, Nevada; to acquire additional shares of Heritage Bancorp, Reno, Nevada, and thereby indirectly acquire additional voting shares of Heritage Bank of Nevada, Reno, Nevada.

Board of Governors of the Federal Reserve System, December 11, 2003.
Robert deV. Frierson,
Deputy Secretary of the Board.

[FR Doc. E3-00564 Filed 12-16-03; 8:45 am]

BILLING CODE 6210-01-S